ENVIRONMENTAL PROTECTION AGENCY

[FRL-7618-2]

Science Advisory Board Staff Office; Notification of Upcoming Meeting of the US Environmental Protection Agency Science Advisory Board

AGENCY: Environmental Protection Agency (EPA).

ACTION: Notice.

SUMMARY: The EPA, Science Advisory Board (SAB) Staff Office announces a public meeting of the Board of the EPA SAB.

DATES: February 23-25, 2004: A public meeting of the Board of the EPA SAB will be held from 9 a.m. to 5 p.m. on February 23 and 24, 2004, and from 9 a.m. to 12 p.m. on February 25, 2004 (eastern time).

ADDRESSES: The meeting location for face-to-face meetings of the Board will be in the greater Washington, DC metropolitan area. The meeting location will be announced on the SAB Web site, http://www.epa/sab two weeks before the meeting.

FOR FURTHER INFORMATION CONTACT: Any member of the public wishing further information regarding the SAB may contact Mr. Thomas O. Miller, Designated Federal Officer (DFO), U.S. EPA Science Advisory Board Staff Office (1400A), 1200 Pennsylvania Avenue, NW., Washington, DC 20460; by telephone/voice mail at (202) 564-4558; or via e-mail at miller.tom@epa.gov. General information about the SAB can be found in the SAB Web site at http://www.epa.gov/sab.

SUPPLEMENTARY INFORMATION:

Background

Pursuant to the Federal Advisory Committee Act, Public Law 92-463, notice is given that the SAB, will hold a public meeting, also described above, to provide advice to EPA on its science, technology, and research programs and budgets for its Fiscal Year 2005. The first public advisory meeting on this subject was first announced in the Federal Register on November 25, 2003 (68 FR 66095), and held on December 10, 2003.

The purpose of the public meeting of February 23-25 is to continue to receive briefings and respond to EPA's charge about science, technology, and research programs and the FY 2005 budget. The charge, meeting agenda, and review documents and background information will be available on the SAB Web site http://www.epa.gov/sab two weeks before the meeting.

Individuals who are unable to access the documents electronically may contact Mr. Thomas Miller, DFO, as noted above. A very limited number of paper copies can be made available in special circumstances.

Procedures for Providing Public Comment

It is the policy of the EPA Science Advisory Board (SAB) Staff Office to accept written public comments of any length, and to accommodate oral public comments whenever possible. The EPA SAB Staff Office expects that public statements presented at the (Board) meeting will not be repetitive of previously submitted oral or written statements. Oral Comments: In general, each individual or group requesting an oral presentation at face-to-face meeting will be limited to a total time of 10 minutes (unless otherwise indicated). For conference call meetings, opportunities for oral comment will usually be limited to no more than three minutes per speaker and no more than 15 minutes total. Interested parties should contact the DFO in writing (email, fax or mail) at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations

Individuals requiring special accommodation to access these meetings, should contact the DFO at least five business days prior to the meeting so that appropriate arrangements can be made.

Dated: January 23, 2004.
Vanessa T. Vu,
Director, EPA Science Advisory Board Staff Office.

[FR Doc. 04-2268 Filed 2-3-04; 8:45 am]

BILLING CODE 6560-50-M